DEPARTMENT OF STATE

[Public Notice: 12344]

Exchange Visitor Program

ACTION: Notice of an arrangement through a Memorandum of Understanding and modification of certain regulatory requirements.

SUMMARY: In accordance with the requirements of the Exchange Visitor Program (EVP) regulations, the Assistant Secretary for Educational and Cultural Affairs (ECA), U.S. Department of State, has modified certain regulatory provisions to permit Austrian dual/vocational education students or recent graduates of such programs to participate in internship and training programs in the United States, providing these exchange visitors an opportunity to gain broadening international experience.

DATES: This action was effective on January 31, 2024.

FOR FURTHER INFORMATION CONTACT: Rebecca Pasini, Deputy Assistant Secretary for Private Sector Exchange at 2200 C Street NW, SA-5, 5th Floor, Washington, DC 20522. or via email at JExchanges@state.gov or by telephone at (202) 826-4364.

SUPPLEMENTARY INFORMATION: A new program between the United States and the Republic of Austria has been established in accordance with existing Exchange Visitor Program (EVP) regulations (22 CFR part 62), including regulations applying to the Intern and Trainee categories (22 CFR 62.22). The program supports the purposes of the Fulbright-Hayes Act by increasing participants' understanding of American culture and society and enhancing Americans' knowledge of Austrian culture and skills through an open interchange of ideas. A key goal of the Fulbright-Hays Act, which authorizes the EVP Intern and Trainee categories of exchange, is that exchange visitors will return to their home countries and share their experiences in the United States.

The new exchange between the United States and Austria allows EVP participation of Austrian citizens aged 18 to 30 who are currently enrolled in (or are within 12 months of graduation at the time of program application) an Austrian accredited post-secondary or dual/vocational education program outside the United States. The Austrian dual/vocational education program is unique in that Austrian students conduct on-the-job trainingwhile they receive a combination of theoretical and practical training in vocational schools and colleges. Under current EVP regulations (22 CFR 62.22(d)(2)), trainees must be foreign nationals who have either a degree or professional certificate from a foreign post-secondary academic institution and at least one year of prior related work experience in their occupational field acquired outside the United States or five years of work experience in their occupational field acquired outside the United States. Under current regulations (22 CFR 62.22(d)(3)), intern exchange visitors must be enrolled in a foreign degree- or certificate-granting post-secondary academic institution or have recently graduated (within 12 months of program start date) from such an institution. Austrian exchange visitors will not need to have lengthy work experience or be enrolled in an academic institution in their home country prior to participating in a training or internship program.

Austrian exchange visitors will be placed for periods of between six and twelve months at up to two U.S. private companies or non-profit institutions. Austrian exchange visitors will have at least two rotations evenly divided over the length of their program. In the first rotation, Austrian exchange visitors may be placed in a routine (entry-level) assignment, but they must have progressively more responsibility in their second rotation. The second rotation is permitted to be at the same placement institution as the first but must give the exchange visitor more responsibility. If they so choose, Austrian exchange visitors may conduct two training rotations in more advanced assignments to cover the full length of their program without conducting an initial routine (entry-level) component.

Under the arrangement, the government of the Republic of Austria has established a reciprocal program permitting U.S. citizens aged 18 to 30 and who have recently graduated (within 12 months at the time of program application) from a U.S. degree, diploma, or certificate-granting educational institution to participate in a working holiday program. Participants may stay in Austria for up to 12 months, pursuing employment with one or more organizations to supplement their funds or for educational purposes without the need for a work permit while they are on the cultural exchange.

Lee A. Satterfield,
Assistant Secretary, Bureau of Educational and Cultural Affairs, Department of State.

[FR Doc. 2024-04305 Filed 2-29-24; 8:45 am]

BILLING CODE 4710-05-P